COMMISSION ON CIVIL RIGHTS

Notice of Public Meetings of the Maine Advisory Committee to the U.S. Commission on Civil Rights

AGENCY: U.S. Commission on Civil Rights.

ACTION: Announcement of meetings.

SUMMARY: Notice is hereby given, pursuant to the provisions of the rules and regulations of the U.S. Commission on Civil Rights (Commission) and the Federal Advisory Committee Act that the Maine Advisory Committee (Committee) will hold three meetings. One will be on Friday, December 11, 2020, at 2:30 p.m. (ET) for the purpose of hearing from the public on the challenges to digital access in Maine. The second and third meetings will be on Thursdays, December 17, 2020 and January 21, 2021, both at 12:00 p.m. for the purpose of hearing testimony about digital equity issues in Maine.

DATES: Friday, December 11, 2020, at 2:30 p.m. ET; Thursday, December 17, 2020, at 12:00 p.m.; Thursday, January 21, 2020, at 12:00 p.m.

Public Call Information for Both Meetings: Dial: 1-800-367-2403; conference ID: 1644409.

FOR FURTHER INFORMATION CONTACT: Evelyn Bohor, at ero@usccr.gov or 202-921-2212.

SUPPLEMENTARY INFORMATION: Members of the public can listen to the discussions. These meetings are available to the public through the above listed toll-free number. Any interested member of the public may call this number and listen to the meeting. An open comment period for each date will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number.

Individuals who are deaf, deafblind and hard of hearing may also follow the proceedings by first calling the Federal Relay Service at 1-800-877-8339 and providing the Federal Relay Service operator with the conference call-in numbers: 1-800-367-2403; Conference ID: 1644409.

Members of the public are also entitled to submit written comments; the comments must be received in the regional office within 30 days following the meeting. Written comments may be emailed to Barbara Delaviez at ero@usccr.gov. Persons who desire additional information may contact the Barbara Delaviez at 202-539-8246.

Records of the meeting will be available via www.facadatabase.gov under the Commission on Civil Rights, Maine Advisory Committee link. Persons interested in the work of this Committee are directed to the Commission's website, http://www.usccr.gov, or may contact the Eastern Regional Office at the above email or phone number.

Agenda

Friday, December 11, 2020 at 2:30 p.m. (ET); and Thursday, December 17, 2020 and Thursday, January 21, 2021, at 12:00 p.m.

• Welcome/Opening

• Briefing on Digital Equity: Community Forum Open Session

• Next Steps

• Other Business

• Public Comment

• Adjournment

Dated: November 24, 2020.
David Mussatt,
Supervisory Chief, Regional Programs Unit.

[FR Doc. 2020-26297 Filed 11-27-20; 8:45 am]

BILLING CODE P